ENVIRONMENTAL PROTECTION AGENCY

[EPA-HQ-OPPT-2021-0303; FRL-12648-01-OCSPP]

Agency Information Collection Activities; Proposed Renewal Collection and Request for Comment; Consolidation of Methylene Chloride; Regulations Under TSCA § 6(a)

AGENCY: Environmental Protection Agency (EPA).

ACTION: Notice.

SUMMARY: In compliance with the Paperwork Reduction Act (PRA), this document announces that EPA is planning to submit a request to renew and consolidate several existing approved Information Collection Requests (ICRs) to the Office of Management and Budget (OMB). Before submitting the consolidated ICR to OMB for review and approval, EPA is soliciting comments on specific aspects of the proposed information collection that is summarized in this document. The consolidated ICR is titled: “Methylene Chloride; Regulation under TSCA § 6(a)” and identified by EPA ICR No. 2556.04 and OMB Control No. 2070-0204. The ICR and accompanying material are available in the docket for public review and comment.

DATES: Comments must be received on or before October 24, 2025.

ADDRESSES: Submit your comments, identified by docket identification (ID) number Docket ID No. EPA-HQ-OPPT-2021-0303, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Office of Program Support (Mail Code 7602M), Office of Chemical Safety and Pollution Prevention, Environmental Protection Agency, 1200 Pennsylvania Ave. NW, Washington, DC 20460-0001; telephone number: (202) 566-1204; email address: Sleasman.Katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Methylene Chloride; Regulation under TSCA § 6(a).

EPA ICR No.: 2556.04.

OMB Control No.: 2070-0204.

ICR Status: This ICR is currently approved through May 31, 2026. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: The Environmental Protection Agency (EPA) is consolidating the rule-related ICR titled, “Methylene Chloride; Regulation under TSCA Section 6(a) (Final Rule; RIN 2070-AK70)(EPA ICR No. 2735.02; OMB Control No. 2070-0229)” into “Methylene Chloride; Regulation of Paint and Coating Removal for Consumer Use under TSCA Section 6(a) (EPA ICR No. 2556.03; OMB Control No. 2070-0204).” This ICR describes the prohibition of the manufacture, process, and distribution of methylene chloride for all consumer use and most industrial and commercial uses and delay prohibition for two conditions: a requirement for a workplace chemical protection program (WCPP) and related workplace methylene chloride monitoring under 40 CFR 751. This ICR covers the information collection activities for downstream notification requirements through Safety Data Sheets; WCPP-related information such as recordkeeping and notification requirements associated with exposure monitoring; and recordkeeping for interim requirements for use of methylene chloride for refinishing wood pieces of artistic, cultural, or historic value and downstream notification for consumer use of paints and coatings.

The ICR, which is available in the docket along with other related materials, provides a detailed explanation of the collection activities and the burden estimate that is only briefly summarized here:

Form number(s): None.

Respondents/affected entities: Entities potentially affected by this ICR include Chemical and Allied Products Merchant Wholesaler firms and Basic Chemical Manufacturing firms North American Industrial Classification System (NAICS) codes identified in question 12 of the ICR.

Respondent's obligation to respond: Mandatory. Per 40 CFR 751 and 15 U.S.C. 2605(a)

Estimated number of potential respondents: 6,515.

Frequency of response: On occasion.

Total estimated average number of responses for each respondent: 7.41.

Total estimated burden: 72,699 hours (per year). Burden is defined at 5 CFR 1320.3(b).

Total estimated costs: $5,342,124 (per year), includes $4,583,912 annualized capital investment or maintenance and operational costs.

III. Are there changes in the estimates from the last approval?

There is an increase of 72,692 hours in the total estimated respondent burden compared with that identified in the ICR currently approved by OMB. This change, which is discussed in more detail in the ICR, reflects increase is a result of consolidating two existing ICRs into one. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: August 15, 2025.
Nancy B. Beck,
Principal Deputy Assistant Administrator, Office of Chemical Safety and Pollution Prevention.

[FR Doc. 2025-16216 Filed 8-22-25; 8:45 am]

BILLING CODE 6560-50-P